DEPARTMENT OF THE INTERIOR

Office of the Special Trustee for American Indians

Notice and Request for Comments

AGENCY: Office of the Special Trustee for American Indians.

ACTION: Notice and Request for Comments.

SUMMARY: In compliance with section 3506(c)(2)(A) of the Paperwork Reduction Act of 1995, the Office of Special Trustee for American Indians announces the proposed extension of a public information collection, “Trust Funds for Tribes and Individual Indians, 25 CFR 115,” OMB Control No. 1035-0004, and that it is seeking comments on its provisions. After public review, the Office of the Secretary will submit the information collection to the Office of Management and Budget for review and approval.

DATES: Comments must be submitted on or before November 16, 2009.

ADDRESSES: You may send comments to John Marshall, Office of the Special Trustee for American Indians, 4400 Masthead Street, NE., Albuquerque, New Mexico 87109 or e-mail them to him at john_marshall@ost.doi.gov. Individuals providing comments should reference “Trust Funds for Tribes and Individual Indians, 25 CFR 115,” OMB Control No. 1035-0004.

FOR FURTHER INFORMATION CONTACT: You may contact John Marshall at telephone number 505-816-1086, or send e-mail to john_marshall@ost.doi.gov.

SUPPLEMENTARY INFORMATION: The American Indian Trust Fund Management Reform Act of 1994 (the Reform Act) makes provisions for the Office of the Special Trustee for American Indians to administer trust fund accounts for individuals and tribes. The collection of information is required to facilitate the processing of deposits, investments, and distribution of monies held in trust by the U.S. Government and administered by the Office of the Special Trustee for American Indians. The collection of information provides the information needed to establish procedures to: deposit and retrieve funds from accounts, perform transactions such as cashing checks, reporting lost or stolen checks, stopping payment of checks, and general verification for account activities.

Request for Comments: The Office of the Special Trustee for American Indians requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

OMB Control Number: 1035-0004.

Type of review: Renewal of existing collection for a 3 year period.

Title: Trust Funds for Tribes and Individuals Indians, 25 CFR 115.

Brief Description of Collection: This information collection is used to process deposits, investments, and distribution of monies held in trust by the Special Trustee for individual Indians in the administration of these accounts. The respondents submit information in order to gain or retain a benefit, namely, access to funds held in trust.

Respondents: Individual Indians who wish to initiate some activity on their accounts.

Number of Respondents: 136,916.

Estimated Time per Response: Averages 35 minutes.

Estimated Number of Responses annually: 136,916.

Frequency of Response: As needed.

Total Annual Burden to Respondents: 79,868 hours.

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection by appointment with the point of contact given in the ADDRESSES section. The comments, with names and addresses, will be available for public view during regular business hours. If you wish us to withhold your personal information, you must prominently state at the beginning of your comment what personal information you want us to withhold. We will honor your request to the extent allowable by law.

An agency may not conduct or sponsor, and a person is not required to respond to, a collection of information unless it displays a currently valid Office of Management and Budget control number.

Dated: October 8, 2009.
Douglas A. Lords,
Deputy Special Trustee—Field Operations.

[FR Doc. E9-24981 Filed 10-15-09; 8:45 am]

BILLING CODE 4310-2W-P